DEPARTMENT OF ENERGY

Federal Energy Regulatory Commission

[Docket No. OR12-29-000]

Brigham Oil & Gas, L.P.; Notice for Temporary Waiver of Filing and Reporting Requirements

Take notice that on September 21, 2012, pursuant to Rule 204 of the Commission's Rules of Practice and Procedure, 18 CFR 385.204 (2012), Brigham Oil & Gas, L.P., (Brigham Oil & Gas) requested that the Commission grant a temporary waiver of the Interstate Commerce Act (ICA) section 6 and section 20 tariff filing and reporting requirements applicable to interstate common carrier pipelines. Brigham Oil & Gas requested review on an expedited basis and that a Commission order granting the temporary waiver be issued no later than November 1, 2012. Brigham Oil & Gas stated that they are developing three crude oil gathering systems in North Dakota, the Williams System, the McKenzie System, and the Ross System, and that a portion of the Williams System is operationally available. Brigham Oil & Gas stated that their circumstances fit the criteria the Commission has used in granting such waivers, and that there is no public interest basis to deny the request.

Any person desiring to intervene or to protest in this proceedings must file in accordance with Rules 211 and 214 of the Commission's Rules of Practice and Procedure (18 CFR 385.211 and 385.214) on or before 5 p.m. Eastern time on the specified comment date. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov. or call (866) 208-3676 (toll free). For TTY, call (202) 502-8659.

Comment Date: 5 p.m. Eastern time on Monday, October 15, 2012.

Dated: September 27, 2012.
Kimberly D. Bose,
Secretary.

[FR Doc. 2012-24362 Filed 10-2-12; 8:45 am]

BILLING CODE 6717-01-P